DEPARTMENT OF TRANSPORTATION

Federal Aviation Administration

14 CFR Part 39

[Docket No. FAA-2004-20007; Directorate Identifier 2004-CE-50-AD; Amendment 39-14798; AD 2006-23-09]

RIN 2120-AA64

Airworthiness Directives; Air Tractor, Inc. Model AT-602 Airplanes

AGENCY: Federal Aviation Administration (FAA), DOT.

ACTION: Final rule; correction.

SUMMARY: This document makes a correction to Airworthiness Directive (AD) 2006-23-09, which published in the Federal Register on November 9, 2006 (71 FR 65719), and applies to all Air Tractor, Inc. Model AT-602 airplanes. AD 2006-23-09 requires you to repetitively inspect (using the eddy current method) the wing center splice joint two outboard fastener holes on both of the wing main spar lower caps for fatigue cracking; repair or replace any wing main spar lower cap where fatigue cracking is found; and report any fatigue cracking found. This AD results from fatigue cracking at the wing center splice joint outboard fastener hole in one of the wing main spar lower caps. The AD number in the AD is incorrectly referenced as “2006-23-01” instead of “2006-23-09” in two places. This document corrects these references.

DATES: The effective date of this AD (2006-23-09) remains December 14, 2006.

FOR FURTHER INFORMATION CONTACT: Andrew McAnaul, Aerospace Engineer, ASW-150 (c/o MIDO-43), 10100 Reunion Place, Suite 650, San Antonio, Texas 78216; telephone: (210) 308-3365; fax: (210) 308-3370.

SUPPLEMENTARY INFORMATION:

Discussion

On October 26, 2006, the FAA issued AD 2006-23-09, Amendment 39-14798 (71 FR 65719, November 9, 2006), which applies to Air Tractor, Inc. Model AT-602 airplanes. AD 2006-23-09 requires you to repetitively inspect (using the eddy current method) the wing center splice joint two outboard fastener holes on both of the wing main spar lower caps for fatigue cracking; repair or replace any wing main spar lower cap where fatigue cracking is found; and report any fatigue cracking found.

The AD number in the AD is incorrectly referenced as “2006-23-01” instead of “2006-23-09” in two places.

Need for the Correction

This correction is needed to assure that the airplane records and documentation shows that the applicable AD is complied with.

Correction of Publication

Accordingly, the publication of November 9, 2006 (71 FR 65719), of Amendment 39-14798; AD 2006-23-09, which was the subject of FR Doc. 06-18688, is corrected as follows:

Section 39.13 [Corrected]

On page 65719, in the first column and sixth line of the document, replace “2006-23-01” with “2006-23-09.”

On page 65721, in the first column and fourth line, replace “2006-23-01” with “2006-23-09.”

Action is taken herein to correct this reference in AD 2006-23-09 and to add this AD correction to section 39.13 of the Federal Aviation Regulations (14 CFR 39.13).

The effective date remains December 14, 2006.

Issued in Kansas City, Missouri, on November 20, 2006.
David R. Showers,
Acting Manager, Small Airplane Directorate, Aircraft Certification Service.

[FR Doc. E6-20123 Filed 11-28-06; 8:45 am]

BILLING CODE 4910-13-P